DEPARTMENT OF TRANSPORTATION

Federal Motor Carrier Safety Administration

[FMCSA-2012-0102]

Proposed Recommendations on Obstructive Sleep Apnea

AGENCY: Federal Motor Carrier Safety Administration (FMCSA), DOT.

ACTION: Withdrawal of Notice.

SUMMARY: FMCSA is withdrawing its proposed regulatory guidance for obstructive sleep apnea (OSA) and request for comment as published on April 20, 2012. The Agency is still in the process of carefully reviewing the recommendations submitted by the Motor Carrier Safety Advisory Committee and Medical Review Board. The initial publication was a clerical error. We anticipate requesting public comment on the recommendations later this year.

DATES: This withdrawal is effective April 27, 2012.

FOR FURTHER INFORMATION CONTACT: Angela Ward, Nurse Consultant Medical Programs, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

A notice was published in the Federal Register on April 20, 2012 (77 FR 23794) announcing proposed regulatory guidance on OSA and the medical certification of commercial motor vehicle drivers based on joint recommendations from the Agency's Motor Carrier Safety Advisory Committee and the Medical Review Board. Because there are a number of initiatives and programs for which the Agency is currently seeking public engagement and comment, however, the Agency defers until later this year, a request for public comment on the regulatory guidance on OSA. This will enable interested parties a better opportunity to focus on and provide comments on this important safety issue.

Issued on: April 20, 2012.
William Bronrott,
Deputy Administrator.

[FR Doc. 2012-10176 Filed 4-26-12; 8:45 am]

BILLING CODE 4910-EX-P